ENVIRONMENTAL PROTECTION AGENCY

[FRL-8268-8]

Notice of Proposed Agreement for Recovery of Past Response Costs Under the Comprehensive Environmental Response, Compensation, and Liability Act of 1980 (CERCLA), as Amended, 42 U.S.C. 9622(h)(1), Tru-Fit Battery Superfund Site, Carroll, IA, Docket No. CERCLA-07-2004-0300

AGENCY: Environmental Protection Agency (EPA).

ACTION: Notice; request for public comment.

SUMMARY: Notice is hereby given that a proposed agreement regarding the Tru-Fit Battery Superfund Site located in Carroll, Iowa, will be signed by the Environmental Protection Agency following completion of the public comment period.

DATES: Comments must be submitted on or before February 15, 2007.

ADDRESSES: Comments should be addressed to J. Scott Pemberton, Senior Assistant Regional Counsel, Environmental Protection Agency, Region VII, 901 N. 5th Street, Kansas City, Kansas 66101, and should refer to: In the Matter of Tru-Fit Battery Superfund Site, Carroll, Iowa, Docket No. CERCLA-07-2004-0300.

The proposed agreement may be examined or obtained in person or by mail from Kathy Robinson, Regional Hearing Clerk, at the office of the Environmental Protection Agency, Region VII, 901 N. 5th Street, Kansas City, Kansas 66101, (913) 551-7567.

SUPPLEMENTARY INFORMATION: This proposed Agreement concerns the Tru-Fit Battery Superfund Site, located in Carroll, Iowa, and is made and entered into by the EPA and T.J.'s Enterprises, Inc. (“the Settling Party”).

In response to the release or threatened release of hazardous substances including lead at or from the Site, EPA undertook response actions at the Site pursuant to Section 104 of CERCLA, 42 U.S.C. 9604. In April 1998, response actions were initiated by EPA to address the release of lead to surface and subsurface soils at the Site. Excavation of lead-contaminated soils began in December 1998, resulting in the excavation, on-Site treatment and off-Site disposal of approximately 2,650 tons of lead-contaminated material. The soils were excavated to below 1000 parts per million, a level suitable only for limited uses of the property. EPA's response action has been completed and all costs incurred.

Pursuant to Section 107(a) of CERCLA, 42 U.S.C. 9607(a), the Settling Party is responsible for response costs incurred at or in connection with the Site. The Regional Administrator of EPA, Region VII, or his designee, has determined that the total past and projected response costs of the United States at or in connection with the Site will not exceed $500,000, excluding interest.

This Agreement requires the Settling Party to pay to the EPA Hazardous Substance Superfund the principal sum of $45,000 in reimbursement of Past Response Costs, and will resolve the Settling Party's alleged civil liability for these costs. The proposed Agreement also includes a covenant not to sue the Settling Party pursuant to Section 107(a) of CERCLA, 42 U.S.C. 9607(a).

Dated: December 21, 2006.
John B. Askew,
Regional Administrator, Environmental Protection Agency, Region VII.

[FR Doc. E7-412 Filed 1-12-07; 8:45 am]

BILLING CODE 6560-50-P